DEPARTMENT OF LABOR

Employment and Training Administration

[TA-W-62,589]

Hubbard Supply Company; Leased On-Site Workers Employed at Atreum-Brighton, Brighton, MI; Notice of Termination of Investigation

Pursuant to section 221 of the Trade Act of 1974, as amended, an investigation was initiated on December 19, 2007 in response to a worker petition filed by the State Workforce Office on behalf of workers of Hubbard Supply Company employed at Atreum-Brighton plant in Brighton, Michigan.

The petitioning group of workers is covered by an active certification, TA-W-62,396. That certification was part of an Amended Notice of Revised Determination issued on January 8, 2008, and expiring on November 14, 2009.

Signed at Washington, DC this 11th day of January 2008.
Richard Church,
Certifying Officer, Division of Trade Adjustment Assistance.

[FR Doc. E8-837 Filed 1-17-08; 8:45 am]

BILLING CODE 4510-FN-P